DEPARTMENT OF HEALTH AND HUMAN SERVICES

National Institutes of Health

National Center for Research Resources; Amended Notice of Meeting

Notice is hereby given of a change in the meeting of the National Center for Research Resources Special Emphasis Panel, June 14, 2011, 8 a.m. to June 15, 2011, 1 p.m., Marriott Courtyard Gaithersburg Washingtonian Center, which was published in the Federal Register on May 3, 2011, 76 FR 85, page 24890.

The meeting date of this meeting has been changed to July 12-13, 2011. The meeting is closed to the public.

Dated: May 11, 2011.
Jennifer S. Spaeth,
Director, Office of Federal Advisory Committee Policy.

[FR Doc. 2011-12045 Filed 5-16-11; 8:45 am]

BILLING CODE 4140-01-P